DEPARTMENT OF COMMERCE

International Trade Administration

[A-337-806]

Notice of Postponement of Preliminary Antidumping Duty Determination: IQF Red Raspberries From Chile

AGENCY: Import Administration, International Trade Administration, Department of Commerce.

SUMMARY: The Department of Commerce is extending the time limit for the preliminary determination in the antidumping duty investigation on individually quick frozen red raspberries from Chile.

EFFECTIVE DATE: October 24, 2001.

FOR FURTHER INFORMATION CONTACT: Cole Kyle (202) 482-1503 or Annika O'Hara (202) 482-3798; Import Administration, International Trade Administration, U.S. Department of Commerce, 14th Street and Constitution Avenue, NW, Washington, DC 20230.

Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (April 2001).

Postponement of Preliminary Determinations

On June 6, 2001, the Department published the initiation of the antidumping duty investigation of imports of individually quick frozen (IQF) red raspberries from Chile. The notice of initiation stated that we would make our preliminary determination for these antidumping duty investigation no later than 140 days after the date of issuance of the initiation (i.e., November 7, 2001). See Notice of Initiation of Antidumping Duty Investigations: IQF Red Raspberries from Chile, 66 FR 34407 (June 28, 2001).

On October 12, 2001, the petitioners¹ made a timely request pursuant to 19 CFR 351.205(e) for a 35-day postponement of the preliminary determination until December 12, 2001. The petitioners requested a postponement of the preliminary determination because of the need for additional time to submit comments regarding the respondents' supplemental questionnaire responses and for the Department to analyze the respondents' data and seek additional data, if necessary, prior to the issuance of the preliminary determination.

¹ The petitioners are the IQF Red Raspberries Fair Trade Committee and its members.

For the reasons identified by the petitioners, and because there are no compelling reasons to deny the request, we are postponing the preliminary determination under section 733(c)(1) of the Act. We will make our preliminary determination no later than December 12, 2001.

This notice is published pursuant to sections 733(f) and 777(i) of the Act.

Dated: October 18, 2001.
Faryar Shirzad,
Assistant Secretary for Import Administration.

[FR Doc. 01-26788 Filed 10-23-01; 8:45 am]

BILLING CODE 3510-DS-P